DEPARTMENT OF TRANSPORTATION

Federal Aviation Administration

14 CFR Part 39

[Docket No. FAA-2005-20865; Directorate Identifier 2003-NM-103-AD]

RIN 2120-AA64

Airworthiness Directives; BAE Systems (Operations) Limited (Jetstream) Model 4101 Airplanes

AGENCY: Federal Aviation Administration (FAA), Department of Transportation (DOT).

ACTION: Notice of proposed rulemaking (NPRM).

SUMMARY: The FAA proposes to adopt a new airworthiness directive (AD) for all BAE Systems (Operations) Limited (Jetstream) Model 4101 airplanes. This proposed AD would require the overhaul of certain auxiliary components installed on the main landing gear (MLG) and nose landing gear (NLG). This proposed AD is prompted by manufacturer determination that overhaul limits need to be imposed for certain auxiliary components of the MLG and NLG. Components that exceed the established overhaul limits could fail due to fatigue, wear, and age. We are proposing this AD to prevent failure of the MLG or NLG, and consequent damage to the airplane and injury to flightcrew and passengers.

DATES: We must receive comments on this proposed AD by May 6, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• By fax: (202) 493-2251.

• Hand Delivery: Room PL-401 on the plaza level of the Nassif Building, 400 Seventh Street, SW., Washington, DC, between 9 a.m. and 5 p.m., Monday through Friday, except Federal holidays.

For service information identified in this proposed AD, contact British Aerospace Regional Aircraft American Support, 13850 Mclearen Road, Herndon, Virginia 20171.

You can examine the contents of this AD docket on the Internet at http://dms.dot.gov, or in person at the Docket Management Facility, U.S. Department of Transportation, 400 Seventh Street, SW., room PL-401, on the plaza level of the Nassif Building, Washington, DC. This docket number is FAA-2005-20865; the directorate identifier for this docket is 2003-NM-103-AD.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Comments Invited

We invite you to submit any relevant written data, views, or arguments regarding this proposed AD. Send your comments to an address listed under ADDRESSES. Include “Docket No. FAA-2005-20865; Directorate Identifier 2003-NM-103-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket website, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Civil Aviation Authority (CAA), which is the airworthiness authority for the United Kingdom, notified us that an unsafe condition may exist on all BAE Systems (Operations) Limited (Jetstream) Model 4101 airplanes. The CAA received a report of manufacturer determination that overhaul limits need to be imposed for certain auxiliary components of the MLG and NLG. Components that exceed the established overhaul limits could fail due to fatigue, wear, and age. This condition, if not corrected, could result in failure of the MLG or NLG, and consequent damage to the airplane and injury to flightcrew and passengers.

Relevant Service Information

BAE Systems (Operations) Limited has issued Service Bulletin J41-32-081, dated August 6, 2002. The service bulletin describes procedures for the overhaul of certain auxiliary components installed on the MLG and NLG. Auxiliary components are the MLG shock struts, the NLG shock strut, the MLG retract actuators, the NLG retract actuator, the MLG drag braces/actuators, the MLG uplocks/actuators, the NLG downlock/actuator, the NLG uplock/actuator, and the steering selector valve.

Service Bulletin J41-32-081 refers to BAE Systems (Operations) Limited Service Bulletin J41-05-001, Revision 2, dated March 15, 2002, as an additional source of service information for calculating estimated usage of affected auxiliary components.

The CAA mandated the service information and issued British airworthiness directive 006-08-2002 to ensure the continued airworthiness of these airplanes in the United Kingdom.

FAA's Determination and Requirements of the Proposed AD

This airplane model is manufactured in the United Kingdom and is type certificated for operation in the United States under the provisions of section 21.29 of the Federal Aviation Regulations (14 CFR 21.29) and the applicable bilateral airworthiness agreement. Pursuant to this bilateral airworthiness agreement, the CAA has kept the FAA informed of the situation described above. We have examined the CAA's findings, evaluated all pertinent information, and determined that we need to issue an AD for products of this type design that are certificated for operation in the United States.

Therefore, we are proposing this AD, which would require the overhaul of certain auxiliary components installed on the MLG and NLG, except as discussed under “Differences Between the Proposed AD and Referenced Service Bulletin.”

Differences Between the Proposed AD and Referenced Service Bulletin

BAE Systems (Operations) Limited Service Bulletin J42-32-081 describes procedures for notifying the manufacturer of the accomplishment of the service bulletin; however, this proposed AD would not require this notification.

BAE Systems (Operations) Limited Service Bulletin J42-32-081 specifies that certain affected components must be overhauled on or before July 31, 2004; however, this proposed AD would specify that certain affected components must be overhauled within 18 months after the effective date of this proposed AD. In developing an appropriate compliance time for this AD, we considered the manufacturer's recommendation, the degree of urgency associated with the subject unsafe condition and the average utilization of the affected fleet. In light of all of these factors, we find that a compliance time of 18 months represents an appropriate interval of time for affected airplanes to continue to operate without compromising safety. This compliance time has been coordinated with the CAA.

Costs of Compliance

This proposed AD would affect about 57 airplanes of U.S. registry. The following table, using an average labor rate of $65 per hour, provides the estimated costs for U.S. operators to comply with this proposed AD.

Estimated Costs
Replacement | Work hours | Parts cost | Cost per airplane | Fleet cost
MLG shock strut (left and right) | 6 | ¹ $25,000 | $50,390 | $2,872,230
NLG shock strut | 3 | 30,000 | 30,195 | 1,721,115
MLG retract actuator (left and right) | 6 | ¹ 6,300 | 12,990 | 740,430
NLG retract actuator | 3 | 4,100 | 4,295 | 244,815
MLG drag brace/actuator (left and right) | 6 | ¹ 9,500 | 19,390 | 1,105,230
MLG uplock/actuator (left and right) | 6 | ¹ 5,600 | 11,590 | 660,630
NLG downlock/actuator | 3 | 3,200 | 3,395 | 193,515
NLG uplock/actuator | 3 | 2,800 | 2,995 | 170,715
Steering selector valve | 3 | 6,800 | 6,995 | 398,715
Total | 39 | 139,700 | 142,235 | 8,107,395
¹ Per side.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

BAE Systems (Operations) Limited (Formerly British Aerospace Regional Aircraft): Docket No. FAA-2005-20865; Directorate Identifier 2003-NM-103-AD.

Comments Due Date

(a) The Federal Aviation Administration must receive comments on this AD action by May 6, 2005.

Affected ADs

(b) None.

Applicability

(c) This AD applies to all BAE Systems (Operations) Limited (Formerly British Aerospace Regional Aircraft) Model Jetstream 4101 airplanes, certificated in any category.

Unsafe Condition

(d) This AD was prompted by manufacturer determination that overhaul limits need to be imposed for certain auxiliary components of the MLG and NLG. Components that exceed the established overhaul limits could fail due to fatigue, wear, and age. We are issuing this AD to prevent failure of the MLG or NLG, and consequent damage to the airplane and injury to flightcrew and passengers.

Compliance

(e) You are responsible for having the actions required by this AD performed within the compliance times specified, unless the actions have already been done.

Overhaul of Landing Gear

(f) Within 18 months after the effective date of this AD, overhaul auxiliary components installed on the MLG and NLG in accordance with the Accomplishment Instructions of BAE Systems (Operations) Limited Service Bulletin J41-32-081, dated August 6, 2002, except as provided by paragraph (g) of this AD; and thereafter as specified in the “Overhaul Period” column of Table 1 of the Accomplishment Instructions of the service bulletin.

Note 1: BAE Systems (Operations) Limited Service Bulletin J41-32-081 refers to BAE Systems (Operations) Limited Service Bulletin J41-05-001, Revision 2, dated March 15, 2002, as an additional source of service information for calculating estimated usage of affected auxiliary components.

No Reporting Requirement

(g) Although the service bulletin referenced in this AD specifies to submit certain information to the manufacturer, this AD does not include that requirement.

Alternative Methods of Compliance (AMOCs)

(h) The Manager, International Branch, ANM-116, Transport Airplane Directorate, FAA, has the authority to approve AMOCs for this AD, if requested in accordance with the procedures found in 14 CFR 39.19.

Related Information

(i) British airworthiness directive 006-08-2002 also addresses the subject of this AD.

Issued in Renton, Washington, on March 30, 2005.
Kalene C. Yanamura,
Acting Manager, Transport Airplane Directorate, Aircraft Certification Service.

[FR Doc. 05-6772 Filed 4-5-05; 8:45 am]

BILLING CODE 4910-13-P